DEPARTMENT OF HEALTH AND HUMAN SERVICES

Centers for Disease Control and Prevention

[30 Day-05-04OP]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 371-5983. Send written comments to CDC, Desk Officer, Human Resources and Housing Branch by fax to (202) 395-6974. Written comments should be received within 30 days of this notice.

Proposed Project

Delayed Symptoms Associated with the Convalescent Period of a Dengue Infection—New—National Center for Infectious Diseases (NCID), Centers for Disease Control and Prevention (CDC).

Background and Brief Description

Dengue is a vector-borne febrile disease of the tropics transmitted most often by the mosquito Aedes aegypti. Symptoms of the acute disease include fever, headache, rash, retro-orbital pain, myalgias, arthralgias, vomiting, abdominal pain and hemorrhagic manifestations.

A number of symptoms are mentioned in the medical literature as associated with the convalescent period after dengue infection, including depression, dementia, loss of sensation, paralysis of lower and upper extremities and larynx, epilepsy, tremors, manic psychosis, amnesia, loss of visual acuity, hair loss, and peeling of skin. The evidence for these findings has derived mainly from case series and case reports, but no analytic study has been conducted to define the timing, frequency, and severity of these symptoms, and quantity the magnitude of the association between dengue infection and each of these disorders.

The objective of this study is to compare mental health disorders and other delayed complications associated with dengue infection and convalescence among study groups. The study will be conducted in Puerto Rico, where dengue is endemic, in collaboration with Dengue Branch of the Centers for Disease Control and Prevention. Laboratory positive confirmed cases of dengue, laboratory negative suspected dengue cases, and neighborhood controls will be prospectively enrolled in the study. Telephone interviews will be conducted and information will be collected prospectively regarding symptoms experienced during the first five months after the onset of symptoms of a dengue infections. There are no costs to the respondents other than their time. The estimated annualized burden is 426 hours.

Estimated Total Annualized Burden Hours
Respondents | Number of respondents | Number of responses per respondent | Average burden per response (in hrs.)
Screeners | 810 | 2 | 1/60
Laboratory positive confirmed dengue | 200 | 2 | 20/60
Dengue negative control | 200 | 2 | 20/60
Neighborhood control | 200 | 2 | 20/60

Joan Karr,
Acting Reports Clearance Officer, Centers for Disease Control and Prevention.

[FR Doc. 05-18786 Filed 9-20-05; 8:45 am]

BILLING CODE 4163-18-P